DEPARTMENT OF THE INTERIOR

Bureau of Land Management

[LLNVLVRWF1640000.L51010000.ER0000; N-82076; 09-08807; TAS: 14x5017]

Notice of Intent To Prepare a Supplemental Environmental Impact Statement for the Proposed One Nevada Transmission Line, Nevada

AGENCY: Bureau of Land Management, Interior.

ACTION: Notice of Intent.

SUMMARY: In compliance with the National Environmental Policy Act of 1976 (NEPA), as amended, and the Federal Land Policy and Management Act of 1976 FLPMA, as amended, the Bureau of Land Management (BLM) Ely and Southern Nevada District Offices intend to prepare a Supplemental Environmental Impact Statement (SEIS) for a proposed 500 kilovolt (kv) transmission line and associated facility from Ely, Nevada, to the Harry Allen substation just north of Las Vegas, Nevada and by this notice are announcing the beginning of the scoping process to solicit public comments and identify issues.

DATES: This notice initiates the public scoping process for the SEIS. Comments on issues may be submitted in writing until August 28, 2009. The date(s) and location(s) of any scoping meetings will be announced at least 15 days in advance through local news media, newspapers and the BLM Web site at: http://www.blm.gov/nv/st/en/fo/ely_field_office.html. In order to be included in the draft SEIS, all comments must be received prior to the close of the scoping period or 15 days after the last public meeting, whichever is later. We will provide additional opportunities for public participation upon publication of the draft SEIS.

ADDRESSES: You may submit comments related to the Proposed One Nevada Transmission Line by any of the following methods:

• Web Site: http://www.blm.gov/nv/st/en/fo/ely_field_office.html;

• E-mail: eyfoweb@nv.blm.gov;

• Fax: 775-289-1910;

• Mail: BLM, Ely District Office, 702 North Industrial Way, Ely, NV 89301; or

• Mail: Southern Nevada District Office, 4701 North Torrey Pines Drive, Las Vegas, NV 89130.

Documents pertinent to this proposal may be examined at the Ely and Southern Nevada District Offices.

FOR FURTHER INFORMATION CONTACT: For further information and/or to have your name added to our mailing list, send requests to: ATTN: One Nevada Transmission Line; contact Michael Dwyer, telephone (702) 821-7102; address, Ely District Office, 702 North Industrial Way, Ely, NV 89301; e-mail michael_dwyer@blm.gov.

SUPPLEMENTARY INFORMATION: On June 5, 2006 the applicant, Sierra Pacific Power Company (SPPC), requested authorization for the Ely Energy Center (EEC), a proposed power-generating facility that included rail lines, transmission lines with fiber optic cable, new and expanded substations, water well-fields and pipeline delivery systems, and associated facilities to be located on mostly public lands in White Pine, Lincoln, Nye, Elko, and Clark counties, Nevada. On January 26, 2007, the BLM published a Notice of Intent to prepare an EIS for the EEC and its associated facilities. Five public scoping meetings were held between February 5 and 9, 2007 in Las Vegas, Alamo, Ely, Elko, and Reno, Nevada. In January 2009, the BLM published a Notice of Availability of a draft EIS initiating a 90-day public comment period on the draft EIS. In February 2009, during the public comment period, NV Energy (formerly SPPC) made public its intention to postpone indefinitely the power generation facilities associated with the EEC from its proposal. On March 30, 2009, the BLM received an amended application and Plan of Development from NV Energy for one approximately 236-mile 500 kV transmission line, one new substation, an expansion of one substation, one fiber optic line, and related appurtenances that were part of the EEC proposal. The project was given a new name by the proponent: The One Nevada 500 kV Transmission Line Project (ON Line Project).

The BLM will develop a SEIS for the project because of substantial changes to the proposed action that are relevant to environmental concerns. See 40 CFR 1502.9(c). Removal of the coal-fired power generation facilities from the application makes an assessment of their impacts in the draft EIS no longer applicable.

The purpose of the public scoping process is to determine relevant issues that will influence the scope of the environmental analysis, including alternatives, and guide the process for developing the EIS. This scoping process will direct the preparation of a SEIS for a proposed 500 kv transmission line and associated facilities from Ely, Nevada, to the Harry Allen substation just north of Las Vegas, Nevada. The SEIS will supplement the Draft Environmental Impact Statement (EIS) for the Ely Energy Center. A power generation plant is not associated with the SEIS.

Because the ON line proposed action is part of the EEC proposed action, the ON Line SEIS will incorporate all applicable sections of the draft EIS. The ON Line draft SEIS will be made available for public comment, and applicable comments collected during the public comment period on the EEC draft EIS will be carried forward into the SEIS process. The BLM will use and coordinate the NEPA commenting process to satisfy the public involvement requirements of Section 106 of the National Historic Preservation Act (NHPA) (16 U.S.C. 470f) as provided for in 36 CFR 800.2(d)(3). Native American Tribal consultations will be conducted in accordance with policy, and Tribal concerns will be given due consideration, including impacts on Indian trust assets. Federal, State, and local agencies, as well as individuals or organizations that may be interested or affected by the BLM's decision on this project are invited to participate in the scoping process and, if eligible, may request or be requested by the BLM to participate as a cooperating agency. Before including your address, phone number, email address, or other personal identifying information in your comment, you should be aware that your entire comment—including your personal identifying information—may be made publicly available at any time. While you can ask us in your comment to withhold your personal identifying information from public review, we cannot guarantee that we will be able to do so.

Authority: 43 CFR part 2800.

Michael J. Herder,
District Manager,
Ely District.

[FR Doc. E9-18081 Filed 7-28-09; 8:45 am]

BILLING CODE 4310-HC-P